COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

Comments Must be Received on or Before: 7/2/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to the Procurement List for production by the nonprofit agencies listed:

Products

Tools, Digging, Fiberglass Handle

NSN: 5120-00-NIB-0014—Shovel, Round Point, Closed Back, Industrial Grade, 48″ Fiberglass Handle, Cushioned Grip

NSN: 5120-00-NIB-0015—Shovel, Round Point, Open Back, Industrial Grade, 48″ Fiberglass Handle, Cushioned Grip

NSN: 5120-00-NIB-0016—Shovel, Round Point, Open Back, Industrial Grade, 29″ Fiberglass Handle, D-grip

NSN: 5120-00-NIB-0017—Shovel, Square Point, Open Back, Industrial Grade, 48″ Fiberglass Handle, Cushioned Grip

NSN: 5120-00-NIB-0018—Shovel, Square Point, Open Back, Industrial Grade, 29″ Fiberglass Handle, D-grip

NSN: 5120-00-NIB-0019—Shovel, General Purpose, Steel Scoop, Industrial Grade, 48″ Fiberglass Handle, Cushioned Grip

NSN: 5120-00-NIB-0020—Shovel, General Purpose, Steel Scoop, Industrial Grade, 29″ Fiberglass Handle, D-grip

NSN: 5120-00-NIB-0021—Shovel, Grain, Aluminum Scoop, Industrial Grade, 51″ Fiberglass Handle, Cushioned Grip

NSN: 5120-00-NIB-0022—Shovel, Grain, Aluminum Scoop, Industrial grade, 29″ Fiberglass Handle, D-grip

NSN: 5120-00-NIB-0023—Shovel, Grain, ABS Scoop, Industrial Grade, 51″ Fiberglass Handle, Cushioned Grip

NSN: 5120-00-NIB-0024—Shovel, Grain, ABS Scoop, Industrial Grade, 29″ Fiberglass Handle, D-Grip

NSN: 5120-00-NIB-0025—Shovel, Snow, ABS Scoop, Industrial Grade, 40″ Fiberglass Handle, D-grip

NSN: 5120-00-NIB-0026—Shovel, Snow Pusher, ABS Scoop, Industrial Grade, 40″ Fiberglass Handle, D-grip

NSN: 3750-00-NIB-0004—Rake, Bow, Leaf, ABS Head, Industrial Grade, 51″ Fiberglass Handle, Cushioned-Grip

NSN: 3750-00-NIB-0005—Rake, Bow, Leaf, Steel Head, Industrial Grade, 57″ Fiberglass Handle, Cushioned-Grip

NSN: 3750-00-NIB-0006—Rake, Flat, Leaf, Steel Head, Industrial Grade, 62″ Fiberglass Handle, Cushioned-Grip

NSN: 3750-00-NIB-0007—Hoe, Mortar, Steel Head, Industrial Grade, 62″ Fiberglass Handle, Cushioned-Grip

NSN: 3750-00-NIB-0008—Hoe, Garden, Steel Head, Industrial Grade, 57″ Fiberglass Handle, Cushioned-Grip

NSN: 5110-00-NIB-0036—Scraper, Ice/Floor, Steel Head, Industrial Grade, 49″ Fiberglass Handle, Cushioned-Grip

NSN: 3895-00-NIB-0001—Tamper, Cast Iron Head, Industrial Grade, 42″ Fiberglass Handle, Cushioned-Grip

NSN: 3895-00-NIB-0002—Asphalt Lute, Aluminum Head, Industrial Grade, 67″ Fiberglass Handle, Cushion-Grip

NPA: Keystone Vocational Services, Inc., Sharon, PA

Contracting Activity: General Services Administration, Kansas City, MO

Coverage: B-List for the Broad Government Requirement as aggregated by the General Services Administration.

Binder, Loose-Leaf

NSN: 7510-01-392-5283-3 D-Ring, No Overlay, Black, 5″

NSN: 7510-01-495-0696—Slant 3 D-Ring with Overlay, White, 4″

NPA: South Texas Lighthouse for the Blind, Corpus Christi, TX

Contracting Activity: General Services Administration, New York, NY

Coverage: A-List for the Total Government Requirement as aggregated by the General Services Administration.

Blank Media Discs, DVD-R

NSN: 7045-00-NIB-0392—Thermal Printable, Silver, 8x Speed, 120Min/4.7GB, 100 PK

NPA: North Central Sight Services, Inc., Williamsport, PA

Contracting Activity: General Services Administration, New York, NY

Coverage: A-List for the Total Government Requirement as aggregated by the General Services Administration.

Padlock Sets, Solid Case

NSN: 5340-01-588-1819—1.5″ Wide Brass, Keyed Differently, w/Chain, EA

NSN: 5340-01-588-1010—1.75″ Wide Steel, Keyed Differently, w/Chain, EA

NSN: 5340-01-588-1036—1.75″ Wide Steel, Keyed Differently, No Chain, EA

NSN: 5340-01-588-1676—1.5″ Wide Brass, 3 Keys, Keyed Alike, w/Chain, 5/SE

Coverage: A-List for the Total Government Requirement, as aggregated by the Defense Logistics Agency Troop Support, Philadelphia, PA.

NSN: 5340-00-NIB-0123-1.75″ Wide Steel, Keyed Differently, w/Chain, 6/SE

NSN: 5340-01-588-1863-1.5″ Wide Brass, Keyed Differently, 3″ Extra Long Shackle, w/Chain, EA

NSN: 5340-01-588-1709-1.5″ Wide Brass, Keyed Differently, 3″ Extra Long Shackle, No Chain, EA

NSN: 5340-01-588-1916-1.75″ Wide Steel, Keyed Differently, 3″ Extra Long Shackle, w/Chain, EA

NSN: 5340-01-588-1924-1.75″ Wide Brass, Keyed Differently, w/Chain, EA

NSN: 5340-01-588-1891-1.5″ Wide Brass, Keyed Alike, w/Chain, 5/SE

NSN: 5340-01-588-1911-1.5″ Wide Brass, Keyed Alike, 3″ X-Long Shackle, w/Chain, 5/SE

NSN: 5340-01-588-1846-1.5″ Wide Brass, Keyed Alike, w/Chain, 6/SE

NSN: 5340-01-588-1827-1.5″ Wide Brass, Keyed Alike, w/Chain, 10/SE

NSN: 5340-01-588-1831-1.5″ Wide Brass, Keyed Alike, w/Chain, 20/SE

NSN: 5340-01-588-1895-1.5″ Wide Brass, Keyed Alike, w/Chain, 25/SE

NSN: 5340-01-588-1838-1.5″ Wide Brass, Keyed Alike, w/Chain, 30/SE

NSN: 5340-01-588-1841-1.5″ Wide Brass, Keyed Alike, w/Chain, 100/SE

NSN: 5340-01-588-1905—Padlock, Solid Case, 1.75″ Wide Steel, Keyed Alike, 3″ Extra Long Shackle, w/Chain, EA

NSN: 5340-01-588-1954-1.75″ Wide Steel, Keyed Alike, w/Chain, 6/SE

NSN: 5340-01-588-1928-1.75″ Wide Steel, Keyed Alike, w/Chain, 10/SE

NSN: 5340-01-588-1960-1.75″ Wide Steel, Keyed Alike, w/Chain, 24/SE

NSN: 5340-01-588-1567-1.5″ Wide Brass, Master Keyed, w/Chain, 5/SE

NSN: 5340-01-588-1582-1.5″ Wide Brass, Master Keyed, w/Chain, 10/SE

NSN: 5340-01-588-1091-1.5″ Wide Brass, Master Keyed, w/Chain, 20/SE

NSN: 5340-01-588-1563-1.5″ Wide Brass, Master Keyed, w/Chain, 30/SE

NSN: 5340-01-588-1044-1.75″ Wide Brass, Master Keyed, w/Chain, 40/SE

NSN: 5340-01-588-1063-1.5″ Wide Brass, Master Keyed, w/Chain, 50/SE

NSN: 5340-01-588-1031-1.5″ Wide Brass, Master Keyed, w/Chain, 100/SE

NSN: 5340-01-588-1592-1.5″ Wide Brass, Grand Master Keyed, w/Chain, 13/SE., 5-5-3 Groupings

NSN: 5340-01-588-1596-1.5″ Wide Brass, Grand Master Keyed, w/Chain, 30/SE., 15-10-5 Groupings

NSN: 5340-01-588-1652-1.5″ Wide Brass, Grand Master Keyed, w/Chain, 30/SE., 15-5-10L Groupings

NSN: 5340-01-588-1657-1.5″ Wide Brass, Grand Master Keyed, w/Chain, 40/SE., 15-5-20L Groupings

NSN: 5340-01-588-1641-1.5″ Wide Brass, Grand Master Keyed, w/Chain, 50/SE., 20-20-10 Groupings

NSN: 5340-01-588-1646-1.75″ Wide Brass, Grand Master Keyed, w/Chain, 55/SE., 35-10-10L Groupings

NSN: 5340-01-588-1664-1.75″ Wide Brass, Grand Master Keyed, w/Chain, 80/SE., 45-15-20L Groupings

NSN: 5340-01-588-1687-1.75″ Brass, Grand Master Keyed, w/Chain, 80/SE., 30-30-20 Groupings

Coverage: B-List for the Broad Government Requirement, as aggregated by the Defense Logistics Agency Troop Support, Philadelphia, PA.

NPA: L.C. Industries for the Blind, Inc., Durham, NC

Contracting Activity: Defense Logistics Agency Troop Support, Philadelphia, PA

Pencil Sharpener, Electric, Hands Free

NSN: 7520-01-241-4229

NPA: Blind Center of Nevada, Inc., Las Vegas, NV

Contracting Activity: General Services Administration, New York, NY

Coverage: A-List for the Total Government Requirement as aggregated by the General Services Administration.

Medical Kit Items

NSN: 6515-01-NIB-7233—Splint, 4.25″ × 36″, Universal

NSN: 6510-00-NIB-0300—Dressing, Chest Seal Wound, 6″ × 8″

NSN: 6510-00-NIB-3325—Bandage, Gauze, Impregnated, 3″ × 144″

NSN: 6510-00-NIB-8884—Adhesive Tape, Surgical, 3″ × 360″

NSN: 6515-01-NIB-7138—Scissors, Bandage

NSN: 6532-01-NIB-6932—Blanket, Survival, 107.25″ × 88.35″

NSN: 6515-01-NIB-1187—Nasal Trumpet

NSN: 6515-01-NIB-7226—Leash, Shears, Trauma

NSN: 6515-01-NIB-0635—Needle, Decompression Device

NSN: 6515-01-NIB-7976—Tourniquet, Non-pneumatic

NPA: Lighthouse Central Florida, Orlando, FL

Contracting Activity: Defense Logistics Agency Troop Support, Philadelphia, PA

Coverage: C-List for 100% of the requirement of the Department of Defense, as aggregated by the Defense Logistics Agency Troop Support, Philadelphia, PA.

Copy Paper, 100% Recycled, Convenience Pack

NSN: 7530-00-NIB-0890-8.5″ × 11″, Reamless 2500 Sheet

NSN: 7530-00-NIB-0891-8.5″ × 11″, Ream Wrapped 2500 Sheet

NPA: Association for Vision Rehabilitation and Employment, Inc., Binghamton, NY

Contracting Activity: General Services Administration, New York, NY

Coverage: A-List for the Total Government Requirement as aggregated by the General Services Administration.

Tray, Mess, 5 Compartment, Tan, 12½″ × 8½″

NSN: 7350-01-411-5266

NPA: The Lighthouse for the Blind in New Orleans, Inc., New Orleans, LA

Contracting Activity: Defense Logistics Agency Troop Support, Philadelphia, PA

Coverage: C-List for an additional 30% of the requirement of the Department of Defense, bringing the requirement on the Procurement List to 100%, as aggregated by the Defense Logistics Agency Troop Support, Philadelphia, PA.

Services

Service Type/Location: Fleet & Facility Maintenance, National Nuclear Security Administration (NNSA), Office of Secure Transportation (OST), Agent Operations Eastern Command (AOEC), 9714 Flannigan Loop Road, Oak Ridge, TN.

NPA: Skookum Educational Programs, Bremerton, WA

Contracting Activity: Department of Energy, National Nuclear Security Admn Business Svcs Division, Washington, DC

Service Type/Location: CBRNE Kit Sustainment and Replenishment, Naval Medical Logistics Command (Offsite: 10440 Trenton Avenue, St. Louis, MO), 693 Nelman Street, Fort Detrick, MD.

NPA: The Lighthouse for the Blind, St. Louis, MO

Contracting Activity: Dept of the Navy, Naval Medical Logistics Command, Fort Detrick, MD

Service Type/Location: Custodial and Landscaping Service, Rome Federal Building, 600 East First Street, Rome, GA.

NPA: Sara's Mentoring Center, Inc., Virginia Beach, VA

Contracting Activity: General Services Adminisration, Public Buildings Service, Acquisition Division/Services Branch, Atlanta, GA

Service Type/Location: Custodial Service, Transportation Security Administration (TSA) Space, Lehigh Valley International Airport, 3311 Airport Rd., Allentown, PA.

NPA: Via of the Lehigh Valley, Inc., Bethlehem, PA

Contracting Activity: General Services Adminisration, Public Buildings Service, R03 Regional contracts Support Services Section, Philadelphia, PA

Service Type/Location: Custodial Service, National Oceanic and Atmospheric Administration (NOAA), National Weather Service, 32 Dawes Drive, Johnson City, NY.

NPA: Human Technologies Corporation, Utica, NY

Contracting Activity: Dept of Commerce, National Oceanic and Atmospheric Administration, Norfolk, VA

Barry S. Lineback,
Director, Business Operations.

[FR Doc. 2012-13316 Filed 5-31-12; 8:45 am]

BILLING CODE 6353-01-P